NATIONAL SCIENCE FOUNDATION

National Science Board; Sunshine Act Meetings; Notice

The National Science Board's Task Force on Unsolicited Mid-Scale Research (MS), pursuant to NSF regulations (45 CFR part 614), the National Science Foundation Act, as amended (42 U.S.C. 1862n-5), and the Government in the Sunshine Act (5 U.S.C. 552b), hereby gives notice in regard to the scheduling of a meeting held by teleconference for the transaction of National Science Board business and other matters specified, as follows:

DATE AND TIME: January 26, 2011, 12:30 p.m.-1:45 p.m. ET.

SUBJECT MATTER: Summary of internal NSF discussion, proposed revision to the MS Task Force charge, plans for the future external discussion groups and workshop, and additional data gathering activities and plans (data mining, possible survey, and Web site).

STATUS: Open.

LOCATION: This meeting will be held by teleconference at the National Science Board Office, National Science Foundation, 4201 Wilson Blvd., Arlington, VA 22230. A room will be available for the public to listen-in to this meeting held by teleconference. All visitors must contact the Board Office at least 24 hours prior to the meeting held by teleconference to arrange for a visitor's badge and to obtain the room number. Call 703-292-7000 or send an e-mail message to nationalsciencebrd@nsf.gov with your name and organizational affiliation to request the room number and your badge, which will be ready for pick-up at the visitor's desk the day of the meeting. All visitors must report to the NSF visitor desk located in the lobby at the 9th and N. Stuart Streets entrance to receive your visitor's badge on the day of the teleconference.

UPDATES & POINT OF CONTACT: Please refer to the National Science Board Web site http://www.nsf.gov/nsb for additional information and schedule updates (time, place, subject matter or status of meeting) may be found at http://www.nsf.gov/nsb/notices/. Point of contact for this meeting is: Matthew B. Wilson, Ph.D., National Science Board Office, 4201 Wilson Blvd., Arlington, VA 22230. Telephone: (703) 292-7000.

Daniel A. Lauretano,
Counsel to the National Science Board.

[FR Doc. 2011-958 Filed 1-13-11; 11:15 am]

BILLING CODE 7555-01-P